DEPARTMENT OF AGRICULTURE

Forest Service

Northwest Sacramento Provincial Advisory Committee (SAC PAC); Klamath Provincial Advisory Committee (Klamath PAC)

AGENCY: Forest Service, USDA.

ACTION: Notice of meeting.

SUMMARY: The Northwest Sacramento Provincial Advisory Committee (NW SACPAC) and the Klamath Provincial Advisory Committee (Klamath PAC) will hold a joint meeting on Thursday, October 25, 2001, in Redding, California. The Klamath PAC members will continue meeting through Friday, October 26. The purpose of the meeting is to discuss Northwest Forest Plan implementation issues.

DATES: The meeting will be held October 25-26, 2001.

LOCATION: The meeting will be held in the Banquet Room of the C.R. Gibbs Restaurant at 2300 Hilltop Drive in Redding, CA.

FOR FURTHER INFORMATION CONTACT: Jackie Riley, Committee Corodinator, USDA, Shasta-Trinity National Forest, 2400 Washington Ave., Redding, CA 96001, (530) 242-2203; e-mail: jriley01@fs.fed.us.

SUPPLEMENTARY INFORMATION: The meeting is open to the public. Public input opportunity will be provided and individuals will have the opportunity to address the Committee at that time.

Dated: September 25, 2001.
J. Sharon Heywood,
Forest Supervisor.

[FR Doc. 01-24777 Filed 10-3-01; 8:45 am]

BILLING CODE 3410-FK-M